DEPARTMENT OF HEALTH AND HUMAN SERVICES

Administration for Children and Families

Grants and Cooperative Agreements; Notice of Availability of Funds

Federal Agency Name: Administration for Children and Families, Office of Family Assistance.

Funding Opportunity Title: Healthy Marriage Resource Center.

Announcement Type: Competitive Grant-Initial.

Funding Opportunity Number: HHS-2004-ACF-OFA-FM-0001.

CFDA Number: 93.647.

Dates: Applications are due June 14, 2004. Letters of Intent are due May 4, 2004.

I. Funding Opportunity Description

The Administration for Children and Families (ACF), Office of Family Assistance (OFA), announces the availability of funds for a Healthy Marriage Resource Center (HMRC). The HMRC will serve as a national repository and distribution center for information and research relating to healthy marriage for educators, practitioners, individuals, and other interested entities. In addition, the HMRC will provide individuals with information on locally run healthy marriage programs. Further, the HMRC will develop resource materials to promote the objectives of the ACF Healthy Marriage Initiative, including but not limited to, syntheses of research and evaluation findings, summaries of relevant information about best practices, and products (tools) and services to help interested persons and entities learn about effective approaches to developing and implementing innovative programs in accordance with Temporary Assistance to Needy Families (TANF) purposes two through four listed below, as stated in the Social Security Act, Section 401(a), and the Code of Federal Regulations at 45 CFR 260.20:

(2) End dependency of needy parents on government benefits by promoting job preparation, work, and marriage;

(3) Prevent and reduce the incidence of out-of-wedlock pregnancies and establish annual numerical goals for preventing and reducing the incidence of these pregnancies; and

(4) Encourage the formation and maintenance of two-parent families.

Background

In recognition of the importance of healthy married families on child well-being, Congress included the formation and maintenance of two parent families as one of the primary goals of the Temporary Assistance for Needy Families Program when it was signed into law by President Clinton in 1996. In recent years, a number of states have begun to implement various healthy marriage activities. For example, in 2004, 70 cities across the United States celebrated Black Marriage Day, many for the first time; 26 states attended events hosted by ACF on developing healthy marriage initiatives; and federally sponsored peer requests by states to learn of existing healthy marriage initiatives increased fourfold. In addition, ACF has funded over 65 healthy marriage grants in the past two years. A central repository containing information, program listings, and other resources for entities and individuals is needed to help support emerging healthy marriage activities, and to provide state and local administrators with information about what does and does not work in promoting healthy marriages.

ACF Programs Funding the Healthy Marriage Resource Center

• The Office of Family Assistance (OFA) administers the Temporary Assistance for Needy Families (TANF) program, under title IV-A of the Social Security Act. TANF is a State/Federal partnership that provides temporary assistance and promotes economic self-sufficiency and family strengthening, including healthy marriages, to States, Territories, Indian Tribes, Native American organizations, localities and community groups. Statutory Authority: Section 1110 of the Social Security Act governing Social Services Research and Demonstration activities.

• The Office of Planning, Research and Evaluation (OPRE) provides research, evaluation, and data analysis in support of ACF programs. The HMRC is one of several projects designed to develop and disseminate knowledge on program practices that improve economic and family outcomes and child well-being, including programs to support the formation and stability of healthy marriages. Statutory Authority: Section 1110 of the Social Security Act governing Social Services Research and Demonstration activities.

• The Children's Bureau supports a range of child welfare programs that increase the strength and stability of families, protect children from abuse and neglect, and lead to permanent placements for children who cannot safely return to their homes, including programs that seek to integrate supports for healthy marriages and family formation into the child welfare system. Statutory Authority: Title IV-B, Subpart 2 of the Social Security Act, Promoting Safe and Stable Families.

• The Office of Child Support Enforcement (OCSE) provides for the location of non-custodial parents, establishing paternity, obtaining child support orders, and enforcing support obligations of non-custodial parents. OCSE also funds demonstration projects that seek to integrate supports for healthy marriages and family formation into the existing array of child support enforcement activities. Statutory Authority: Section 452(j) of the Social Security Act.

Ten percent of the funding for the HMRC will be set aside for an informational database for individuals and interested parties and a clearinghouse for information to support State-run healthy marriage demonstration programs funded through Title IV-D (Child Support Enforcement) of the Social Security Act.

Ten percent of the funding for the HMRC also will be set aside for an informational database for individuals and interested parties and a clearinghouse for information to support healthy marriage programs and initiatives administered by States and Indian Tribes and funded through Title IV-B (Child Welfare) of the Social Security Act.

Purpose

Healthy marriage is important to society. On average, men and women in healthy marriages are more likely to build wealth, have better health, experience emotional well-being and live longer. Even more importantly, children who grow up in healthy married families do better on a host of outcomes than those who grow up in unhealthy married households. For example, children in healthy married households are at less risk for substance abuse, emotional distress and mental illness, suicide, criminal behavior, educational decline, poverty, child abuse and neglect. Further, children raised in healthy married households are more likely to develop better relationships with their parents, develop stable marriages and families themselves, experience greater economic security, perform better academically and later in occupational settings, and have better physical health.

The HMRC is one of ACF's efforts to support and promote healthy marriages. ACF has undertaken crosscutting program and field activities to strengthen healthy marriages, including engaging States, communities, and faith-based organizations in partnerships to develop local healthy marriage initiatives. ACF has awarded numerous grants to support the integration of healthy marriage programs and services into the broad array of existing public sector social service programs including child support enforcement, child welfare, refugee resettlement, and community services. ACF also launched a research and evaluation agenda that includes large-scale evaluations of multi-site interventions as well as smaller research projects. The HMRC will help disseminate relevant information to practitioners, educators, other interested stakeholders, and to individuals seeking both national and local information about existing activities. The HMRC will be an important addition to help ACF more effectively improve the well-being of children.

The HMRC will have multiple functions which will fall under the following broad activities:

• Maintain a website clearinghouse on information related to the federal Healthy Marriage Initiative. HMRC will serve as a national repository and distribution center for information and research relating to healthy marriage programs, initiatives, and activities.

• Maintain a database of local healthy marriage programs for use by educators, practitioners, government officials and individuals.

• Provide a forum for dissemination of research and information and public discussion on healthy marriages. Efforts to promote the objectives of the healthy marriage initiative will include (but are not limited to) a speakers bureau, an inquiry response system, email and mailing lists, web casts, conference calls and newsletters. The HMRC will be responsible for developing effective resource materials about healthy marriages to support entities developing and implementing innovative programs to accomplish the goals of the healthy marriage initiative.

A key staff person from the project must attend an annual meeting with the HMRC project leadership (to be determined by the Office of Family Assistance) in Washington, D.C. and a “kick-off” meeting following award (if specified in the Priority Area). Substantial involvement is expected between ACF and the recipient when carrying out the activity contemplated in the cooperative agreement.

II. Award Information

Funding Instrument Type: Cooperative Agreement.

The cooperative agreement will require a close working relationship between ACF and the successful applicant for the HMRC. It will be necessary for ACF to collaborate with the HMRC to facilitate relationships and the exchange of information necessary to build the website, and work with the applicant to identify technical assistance and training needs, emerging issues, research findings, available resources, and model programs. ACF will work closely with the HMRC to identify the types of technical assistance and training to be made available to interested entities, and the areas of research and information to be disseminated. ACF, together with the HMRC, will sponsor appropriate meetings to promote coordination, information sharing and access to resources, training and learning opportunities. ACF will work together with the HMRC to address issues or problems with regard to the applicant's ability to carry out the full range of activities effectively and efficiently under the HMRC included in the applicant's proposal.

Anticipated Total Priority Area Funding: $900,000 per budget period.

Anticipated Number of Awards: 1 per budget period.

Ceiling on Amount of Individual Awards: $900,000 per budget period.

Floor on Individual Award Amounts: $900,000 per budget period.

Average Projected Award Amount: $900,000 per budget period.

Project Periods for Awards: Possible funding up to $900,000 per year over a 5 year period. The initial funding award will be for a 12-month budget period. The award of continuation funding beyond the initial 12-month budget period will be subject to the availability of funds, satisfactory progress on the part of the applicant, and a determination that continued funding would be in the best interest of the government.(Subject to Congressional appropriations.)

ACF plans to award $900,000 for the first year and $4,500,000 over a 5 year period. OFA reserves the right to award less, or more, than the funds described, in the absence of worthy applications, or under such other circumstances as may be deemed to be in the best interest of the government.

III. Eligibility Information

1. Eligible Applicants

County governments, City or township governments, Special district governments, State controlled institutions of higher education, Native American tribal governments (Federally recognized), Non-profit organizations having a 501(c)(3) status with the Internal Revenue Service, other than institutions of higher education, Private institutions of higher education, For-profit organizations other than small businesses, Small businesses, and faith-based organizations.

2. Cost Sharing or Matching—Yes

The grantee must provide at least 10 percent of the total approved cost of the project (see section V. Evaluation Criteria). The total approved cost of the project is $1,000,000 per year which is the sum of the ACF share and the non-Federal share. The non-Federal share may be met by cash or in-kind contributions, although applicants are encouraged to meet their match requirements through cash contributions. Since the federal funds authorized for the HMRC are $900,000 per year, applicants are expected to match a total of $100,000 per 12 month budget period. The grantee will be held accountable for commitments of non-Federal resources even if over the amount of the required match. Failure to provide the matching share will result in disallowance of Federal dollars. These commitments must be bona fide funding commitments, subject to scrutiny by ACF.

Applications that fail to include the required amount of cost-sharing will be considered non-responsive and will not be eligible for funding under this announcement.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

U.S. Department of Health and Human Services (HHS), Administration for Children and Families, Office of Family Assistance, Healthy Marriage Resource Center Program, 370 L'Enfant Promenade, SW., 5th Floor, East Side, Washington, DC 20447, Telephone: (202) 401-5438, Attention: Paul Maiers.

2. Content and Form of Application Submission

Electronic Format

You may submit your application to us either in electronic or paper format. To submit an application electronically, please use the http://www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov. You must search for the downloadable application package by the CFDA number.

Application Requirements

An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget.

The proposal should be double-spaced and single sided on 8″ x 11″ plain white paper, with 1″ margins on all sides. Use only a standard size font (such as Times New Roman or Arial) no smaller than 12 pitch throughout the application. All pages of the application (including appendices, resumes, charts, references/footnotes, tables, maps and exhibits) must be sequentially numbered, beginning on the first page after the budget justification, the principal investigator contact information and the Table of Contents. Applicants are urged to be concise and limit applications to no more than 25 pages. This limit of 25 pages applies to the narrative portion of the application only. There is an additional limit of 15 pages for all supporting documents for a total of no more than 40 pages. The supporting documents may include resumes, letters of recommendation, and any other documents that relate to the program announcement's evaluation criteria. Any proposals over this limit will be removed and not be reviewed.

Applicants are requested not to send pamphlets, brochures, or other printed material along with their applications as these pose copying difficulties. These materials, if submitted, will not be included in the review process. In addition, applicants must not submit any additional letters of endorsement beyond any that may be required. Please note that applicants that do not comply with the requirements in the section on “Eligible Applicants” will not be included in the review process.

Forms and Certifications: Eligible applicants applying for funds must submit a complete application, including the required forms, in order to be considered for a grant. Under this announcement, an application must be submitted on the Standard Form 424 (approved by the Office of Management and Budget under Control Number 0348-0043.) Each application must be signed by an individual authorized to act for the applicant and to assume responsibility for the obligations imposed by the terms and conditions of the grant award.

The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the web at http://www.acf.hhs.gov/programs/ofs/forms.htm.

3. Submission Dates and Times

The closing time and date for receipt of applications is 4:30 p.m. (Eastern Time Zone) on June 14, 2004. Mailed or hand carried applications received after 4:30 p.m. on the closing date will be classified as late.

Deadline: Mailed applications shall be considered as meeting an announced deadline if they are received on or before the deadline time and date at the following address:

U.S. Department of Health and Human Services (HHS), Administration for Children and Families, Office of Family Assistance, 370 L'Enfant Promenade, SW., 4th Floor, West Side, Washington, DC 20447, ATTN: Barbara Ziegler Johnson, Telephone: (202) 401-4646.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the following address:

U.S. Department of Health and Human Services (HHS), Administration for Children and Families, Office of Family Assistance, 370 L'Enfant Promenade, SW., 4th Floor, West Side, Washington, DC 20447, ATTN: Barbara Ziegler Johnson, Telephone: (202) 401-4646.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Narrative | Described in Section V of this Announcement | Format described in Section V | By application due date.
SF 424, SF 424 A, and SF 424 B | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

Applicants from jurisdictions that have elected not to participate in the Executive Order process or for projects administered by federally-recognized Indian Tribes need take no action in regard to E.O. 12372. As of October 1, 2003, the following jurisdictions have elected not to participate in the Executive Order process:

Alabama

Alaska

Arizona

Colorado

Connecticut

Hawaii

Idaho

Indiana

Kansas

Louisiana

Minnesota

Montana

Nebraska

New Jersey

Ohio

Oklahoma

Oregon

Pennsylvania

South Dakota

Tennessee

Vermont

Virginia

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW. Washington, DC 20447.

A list of the Single Points of Contact for each State and Territory is included with the application materials for this announcement.

5. Funding Restrictions

Applicants are cautioned that the ceiling for individual awards is $900,000. Applications exceeding the $900,000 threshold will be considered non-responsive and will not be eligible for funding under this announcement.

Applicants that fail to include the required amount of cost share will be considered non-responsive and will not be eligible for funding under this announcement.

6. Other Submission Requirements

Submission by Mail: An Applicant must provide an original application with all attachments, signed by an authorized representative and two copies. The Application must be received at the address below by 5 PM Eastern Standard Time on or before the closing date. Applications should be mailed to:

U.S. Department of Health and Human Services (HHS), Administration for Children and Families, Office of Family Assistance, 370 L'Enfant Promenade, SW., 4th Floor, West Side, Washington, DC 20447, ATTN: Barbara Ziegler Johnson, Telephone: (202) 401-4646.

Hand Delivery: An Applicant must provide an original application with all attachments signed by an authorized representative and two copies. The application must be received at the address below by 4:30 PM Eastern Standard Time on or before the closing date. Applications that are hand delivered will be accepted between the hours of 8 AM to 4:30 PM, Monday through Friday. Applications may be delivered to: U.S. Department of Health and Human Services (HHS), Administration for Children and Families, Office of Family Assistance, 370 L'Enfant Promenade, SW., 4th Floor, West Side, Washington, DC 20447, ATTN: Barbara Ziegler Johnson, Telephone: (202) 401-4646.

Electronic Submission: Please see section IV. 2 Content and Form of Application Submission, for guidelines and requirements when submitting applications electronically.

V. Application Review Information

1. Criteria

General Instructions for the Uniform Project Description

The following are instructions and guidelines on how to prepare the “project summary/abstract” and “Full Project Description” sections of the application. Under the evaluation criteria section, note that each criterion is preceded by the generic evaluation requirement under the ACF Uniform Project Description (UPD). Public Reporting for this collection of information is estimated to average 40 hours per response, including the time for reviewing instructions, gathering and maintaining the data needed, and reviewing the collection information.

The project description is approved under OMB Control Number 0970-0139. An agency may not conduct or sponsor, and a person is not required to respond to, a collection of information unless it displays a currently valid OMB control number.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Results or Benefits Expected

Identify the results and benefits to be derived. For example, describe how the intermediary's assistance to faith-based and community organizations will increase their effectiveness, enhance their ability to provide social services, diversify their funding sources, and create collaborations to better serve those most in need.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Objectives (15 points)

• The objectives are clearly stated, necessary and relevant to the Healthy Marriage Initiative.

• Stated objectives are sufficient for accomplishing the goals of the project.

• The objectives will broaden the information base available to interested entities on healthy marriage programs.

• The objectives address the vital needs related to program purposes and provide data and information to support its claim.

Approach (35 points)

• The proposal specifies the activities to be completed and the scope of these activities.

• The scope of activities is appropriate and sufficient for addressing the objectives of the Healthy Marriage Resource Center.

• The extent to which the focus of the activities helps couples and individuals, on a voluntary basis, gain access to the skills and information that can increase their chances of forming and sustaining healthy marriages.

• The proposal clearly articulates the extent to which the applicant is qualified to undertake this work based on a demonstrated history of doing related work.

• The application includes a detailed description of the HMRC's targeted audience and the Center's functions related to each of these groups.

• The extent to which the activities and analyses reflect knowledge of web-based clearing houses and use of state-of-the-art technology to support such a clearing house.

• The scope of the project is reasonable for the funds available for the cooperative agreement.

• The proposed project plan includes specific dates for various phases of the project including start-up, initial implementation, and full implementation of the complete project and is reasonable given the proposed staffing, timeline, and budget.

Staff and Position Data (30 points)

• The project director and staff have demonstrated expertise in issues relating to healthy marriages, marriage education and implementation practices to conduct the activities described in the application.

• The proposed staff experience reflects an understanding of and sensitivity to the issues of working with States, localities, governments, for-profit and non-profit providers, and ACF programs.

• The time that will be devoted to this project by the project director and other key staff is adequate to ensure a high level of professional input and attention.

Budget (20 points)

• The predominance of funding is for program-related costs, with a minimal amount dedicated for administrative costs.

• The budget presentation is clear and detailed, and justifies funding uses.

• Applicants have provided a plan for project continuance beyond the duration of the grant support.

2. Review and Selection Process

Initial OFA Screening

Each application submitted to OFA will be screened to determine whether it was received by the closing date and time.

Applications received by the closing date and time will be screened for completeness and conformity with the requirements outlined in Section III and IV of this announcement. Only complete applications that meet the requirements listed below will be reviewed and evaluated competitively. Other applications will be returned to the applicants with a letter stating that they were unacceptable and will not be reviewed.

Review Process

Applications that pass the initial OFA screening will be reviewed and rated by a panel of experts based on the program elements and review criteria presented in relevant sections of this program announcement. The review criteria are designed to enable the review panel to assess the quality of a proposed project and determine the likelihood of its success. The criteria are closely related to each other and are considered as a whole in judging the overall quality of an application. The review panel awards points only to applications that are responsive to the program elements and relevant review criteria within the context of this program announcement.

The OFA Director and program staff will use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with Federal funds granted in the last five (5) years; comments of reviewers and government officials; staff evaluation and input; amount and duration of the grant requested and the proposed project's consistency and harmony with OFA goals and policy; geographic distribution of applications; previous program performance of applicants; compliance with grant terms under previous Federal grants, including the actual dedication to program of mobilized resources as set forth in project applications; audit reports; investigative reports; and applicant's progress in resolving any final audit disallowance on previous Federal agency grants.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing by the Office of Family Assistance.

2. Administrative and National Policy Requirements

45 CFR Part 74 and 45 CFR Part 92.

Conditions for the Cooperative Agreement

The HMRC applicant will develop and implement work plans to ensure that the services and activities included in the approved proposal address the needs of the HMRC in an efficient, effective and timely manner. ACF will closely review and monitor all of these work products. The HMRC applicant will submit for ACF approval plans and procedures for the issuance of contracts awarded for activities under this announcement prior to the issuance of any contracts. The HMRC will submit regular reports, no less frequently than semi-annually, on the name and description of the organization receiving any contracts, summary and purpose of the contracts, the amount of the contract, and proposed plan for outcome measurements. The HMRC will work collaboratively with ACF and ACF partners to assist in carrying out the purposes of the HMRC.

3. Reporting

Programmatic Reports: Semi-annually.

Financial Reports: Semi-annually.

Special Reporting Requirements: None.

All grantees are required to submit semi-annual program reports; grantees are also required to submit semi-annual expenditure reports using the required financial standard form (SF-269) which is located on the Internet at: http://forms.psc.gov/forms/sf/SF-269.pdf. A suggested format for the program report will be sent to all grantees after the awards are made.

VII. Agency Contacts

Program Office Contact: Paul Maiers, U.S. Department of Health and Human Services (HHS), Administration for Children and Families, Office of Family Assistance, Marriage Resource Center Program, 370 L'Enfant Promenade, SW., 5th Floor, East Side, Washington, DC 20447, Telephone: (202) 401-5438.

Grants Management Office Contact: Barbara Ziegler Johnson, Office of Grants Management, Division of Discretionary Grants, 370 L'Enfant Promenade, SW., 4th Floor West, Aerospace Building, Washington, DC 20447-0002, Telephone: Telephone: (202) 401-4646.

VIII. Other Information

Additional information about this program and its purpose can be located on the following Web site: http://intranet.acf.dhhs.gov/.

Wade F. Horn,
Assistant Secretary for Children and Families.

[FR Doc. 04-8416 Filed 4-13-04; 8:45 am]

BILLING CODE 4184-01-P